NUCLEAR REGULATORY COMMISSION

[NRC-2019-0143]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from June 18, 2019 to June 28, 2019. The last biweekly notice was published on July 2, 2019.

DATES: Comments must be filed by August 15, 2019. A request for a hearing must be filed by September 16, 2019.

ADDRESSES: You may submit comments by any of the following methods (unless this document describes a different method for submitting comments on a specific subject):

• Federal Rulemaking Website: Go to https://www.regulations.gov and search for Docket ID NRC-2019-0143. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kay Goldstein, Office of Nuclear Reactor Regulation, U.S. Nuclear Regulatory Commission, Washington DC 20555-0001; telephone: 301-415-1506, email: Kay.Goldstein@nrc.gov.

SUPPLEMENTARY INFORMATION:

I. Obtaining Information and Submitting Comments

A. Obtaining Information

Please refer to Docket ID NRC-2019-0143 facility name, unit number(s), plant docket number, application date, and subject when contacting the NRC about the availability of information for this action. You may obtain publicly-available information related to this action by any of the following methods:

• Federal Rulemaking Website: Go to https://www.regulations.gov and search for Docket ID NRC-2019-0143.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0143 facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “Cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Entergy Nuclear Operations, Inc., Docket No. 50-293, Pilgrim Nuclear Power Station (PNPS), Plymouth County, Massachusetts

Date of amendment request: April 25, 2019. A publicly-available version is in ADAMS under Accession No. ML19115A225.

Description of amendment request: The amendment would remove the existing Cyber Security Plan (CSP) requirements contained in License Condition 3.G of the PNPS Renewed Facility Operating License and the commitment to fully implement the CSP by the Milestone 8 commitment date of December 31, 2020 (ADAMS Accession No. ML17290A487).

Basis for proposed no significant hazards consideration determination: As required by 10 CFR 50.91(a), the licensee has provided its analysis of the issue of no significant hazards consideration, which is presented below:

1. Does the proposed change involve a significant increase in the probability or consequences of an accident previously evaluated?

Response: No.

Following cessation of power operations and removal of all spent fuel from the reactor, spent fuel at PNPS will be stored in the SFP [spent fuel pool] and in the independent spent fuel storage installation (ISFSI). In this configuration, the spectrum of possible transients and accidents is significantly reduced compared to an operating nuclear power reactor. The only design basis accident that could potentially result in an offsite radiological release at PNPS is the FHA [fuel handling accident], which is predicated on spent fuel being stored in the SFP. An analysis has been performed that concludes that once PNPS has been permanently shut down for 46 days, there is no longer any possibility of an offsite radiological release from a design basis accident that could exceed the EPA's [Environmental Protection Agency] PAGs [protective action guidelines]. The results of this analysis have been previously submitted to the NRC (ADAMS Accession No. ML18186A635) (Reference 4 [of Entergy's letter dated April 25, 2019]). With the significant reduction in radiological risk based on PNPS being shut down for more than 46 days, the consequences of a cyber-attack are also significantly reduced.

This proposed change does not alter previously evaluated accident analysis assumptions, introduce or alter any initiators, or affect the function of facility structures, systems, and components (SSCs) relied upon to prevent or mitigate any previously evaluated accident or the manner in which these SSCs are operated, maintained, modified, tested, or inspected. The proposed change does not involve any facility modifications which affect the performance capability of any SSCs relied upon to prevent or mitigate the consequences of any previously evaluated accidents.

Therefore, the proposed change does not involve a significant increase in the probability or consequences of an accident previously evaluated.

2. Does the proposed change create the possibility of a new or different kind of accident from any accident previously evaluated?

Response: No.

This proposed change does not alter accident analysis assumptions, introduce or alter any initiators, or affect the function of facility SSCs relied upon to prevent or mitigate any previously evaluated accident, or the manner in which these SSCs are operated, maintained, modified, tested, or inspected. The proposed change does not involve any facility modifications which affect the performance capability of any SSCs relied upon to mitigate the consequences of previously evaluated accidents and does not create the possibility of a new or different kind of accident from any accident previously evaluated.

Additionally, per an NRC Memorandum, Cyber Security Requirements for Decommissioning Nuclear Power Plants (Reference 3 [of Entergy's letter dated April 25, 2019, ADAMS Accession No. ML16172A284, dated December 5, 2016]), the NRC staff has determined that 10 CFR 73.54 does not apply to reactor licensees that have submitted certifications of permanent cessation of power operations and permanent removal of fuel under 10 CFR 50.82(a)(1), and whose certifications have been docketed by the NRC 10 CFR 50.82(a)(2). PNPS [has] permanently remove[d] all fuel under 10 CFR 50.82(a)(1) in June 2019 and submit[ted] the required documentation stating so [ADAMS Accession No. ML19161A033]. Entergy has provided a site-specific analysis (Calculation No. PNPS-EC-73355-M1418, Adiabatic Heatup Analysis for Drained Spent Fuel Pool) (PNPS site-specific Zirconium-Fire Analysis) that provides the determination that sufficient time will have passed prior to the requested implementation date such that the spent fuel stored in the spent fuel pool cannot reasonably heat up to clad ignition temperature within 10 hours.

Therefore, the proposed change does not create the possibility of a new or different kind of accident from any previously evaluated.

3. Does the proposed change involve a significant reduction in a margin of safety?

Response: No.

Plant safety margins are established through limiting conditions for operation and design features specified in the PNPS Permanently Defueled Technical Specifications that were submitted to the NRC on September 13, 2018 (Reference 8 [of Entergy's letter dated April 25, 2019, ADAMS Accession No. ML18260A085, dated September 13, 2018]). The NRC anticipates approval of the submittal in July 2019. The proposed change does not involve any changes to the initial conditions that establish safety margins and does not involve modifications to any SSCs which are relied upon to provide a margin of safety. Because there is no change to established safety margins as a result of this proposed change, no significant reduction in a margin of safety is involved.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Susan H. Raimo, Senior Counsel, Entergy Services, Inc., 101 Constitution Avenue NW, Suite 200 East, Washington, DC 20001.

NRC Acting Branch Chief: Lisa M. Regner.

Southern Nuclear Operating Company, Inc., Georgia Power Company, Oglethorpe Power Corporation, Municipal Electric Authority of Georgia, City of Dalton, Georgia, Docket Nos. 50-32 1 and 50-366, Edwin I. Hatch Nuclear Plant (HNP), Unit Nos. 1 and 2, Appling County, Georgia

Date of amendment request: April 24, 2019. A publicly-available version is in ADAMS under Accession No. ML19114A456.

Description of amendment request: The amendments would revise certain technical specifications to remove the requirements for engineered safety feature (ESF) systems (e.g., secondary containment, secondary containment valve isolation capability, and standby gas treatment (SGT) system) to be operable after sufficient radioactive decay of irradiated fuel has occurred following a plant shutdown. The amendments would revise technical specification (TS) TS 3.3.6.2, “Secondary Containment Isolation Instrumentation;” TS 3.6.4.1, “Secondary Containment;” TS 3.6.4.2, “Secondary Containment Isolation Valves;” and TS 3.6.4.3, “Standby Gas Treatment System.”

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not affect accident initiators or precursors nor adversely alter the design assumptions, conditions, and configuration of the facility. The proposed amendment does not alter any plant equipment or operating practices with respect to such initiators or precursors in a manner that the probability of an accident is increased.

The proposed amendment does not involve a physical change to the secondary containment or spent fuel area systems, nor does it change the safety function of the secondary containment, secondary containment isolation valves, SGT system, and associated refueling floor exhaust radiation isolation instrumentation. The subject ESF systems are not assumed in the mitigation of an [fuel handling accident] FHA after sufficient radioactive decay of irradiated fuel has occurred. In addition, FHA dose analysis shows that [main control room] MCR dose remains below the 10 CFR 50.67(b)(2)(iii) dose limit and off-site dose remains below the accident dose limit specified in the NRC [standard review plan] SRP, which represents a small fraction of 10 CFR 50.67 dose limits.

As a result, the proposed change does not involve a significant increase in the probability or consequences of an accident previously evaluated.

2. Does the proposed change create the possibility of a new or different accident from any accident previously evaluated?

Response: No.

With respect to a new or different kind of accident, there are no proposed design changes to the safety related plant structures, systems, and components (SSCs); nor are there any changes in the method by which safety related plant SSCs perform their specified safety functions. The proposed amendment will not affect the normal method of plant operation or revise any operating parameters. No new accident scenarios, transient precursor, failure mechanisms, or limiting single failures will be introduced as a result of this proposed change and the failure modes and effects analyses of SSCs important to safety are not altered as a result of this proposed change. The proposed amendment does not alter the design or performance of the related SSCs, and, therefore, does not constitute a new type of test.

No changes are being proposed to the procedures that operate the plant equipment and the change does not have a detrimental impact on the manner in which plant equipment operates or responds to an actuation signal.

Therefore, the proposed change will not create the possibility of a new or different accident previously evaluated.

3. Does the proposed change involve a significant reduction in a margin of safety?

Response: No.

The margin of safety is related to the ability of the fission product barriers to perform their design functions during and following an accident. These barriers include the fuel cladding, the reactor coolant system, and the containment.

Instrumentation safety margin is established by ensuring the limiting safety system settings (LSSSs) automatically actuate the applicable design function to correct an abnormal situation before a safety limit is exceeded. Safety analysis limits are established for reactor trip system and ESF actuation system instrumentation functions related to those variables having significant safety functions. The proposed change does not alter the design of these protection systems; nor are there any changes in the method by which safety related plant SSCs perform their specified safety functions.

The proposed amendment does not involve a physical change to the secondary containment or spent fuel area systems, nor does it change the safety function of the secondary containment, secondary containment isolation valves, SGT system, and associated refueling floor exhaust radiation isolation instrumentation. The subject ESF systems are not assumed in the mitigation of an FHA after sufficient radioactive decay of irradiated fuel has occurred. The HNP FHA dose analysis shows that MCR dose remains below the 10 CFR 50.67(b)(2)(iii) dose limit and off-site dose remains below the accident dose limit specified in the NRC SRP, which represents a small fraction of 10 CFR 50.67 dose limits.

The controlling parameters established to isolate or actuate required ESF systems during an accident or transient are not affected by the proposed amendment and no design basis or safety limit is altered as a result of the proposed change. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P.O. Box 1295, Birmingham, AL 35201-1295.

NRC Branch Chief: Michael T. Markley.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County, Georgia

Date of amendment request: April 30, 2019. A publicly-available version is in ADAMS under Accession No. ML19123A101.

Description of amendment request: The amendments would revise Unit 1 and Unit 2 technical specification (TS) 3.3.8.1, “Loss of Power (LOP) Instrumentation” to modify the instrument allowable values for the Unit 1 4.16 kilovolt (kV) emergency bus degraded voltage instrumentation and delete the annunciation requirements for the Unit 1 4.16 kV emergency bus under voltage instrumentation, including associated TS actions. These proposed amendments would also delete Unit 1 License Condition 2.C(11) and Unit 2 License Condition 2.C(3)(i). Additionally, the proposed amendments would revise surveillance requirement (SR) 3.8.1.8 in TS 3.8.1, “AC Sources—Operating,” to increase the voltage limit in the emergency diesel generator (DG) full load rejection test for the Unit 1 DGs.

Basis for proposed no significant hazards consideration determination: As required by 10 CFR 50.91(a), the licensee has provided its analysis of the issue of no significant hazards consideration, which is presented below:

1. Does the proposed amendment involve a significant increase in the probability or consequences of an accident previously evaluated?

Response: No.

The proposed change incorporates concomitant changes to the [loss of power] LOP instrumentation requirements to reflect an electrical power system modification by deleting the unnecessary loss of voltage annunciation requirements and increasing the [allowable values] AVs for the degraded voltage protection instrumentation.

The proposed license change does not involve a physical change to the LOP instrumentation, nor does it change the safety function of the LOP instrumentation or the equipment supported by the LOP instrumentation.

Automatic starting of the [emergency diesel generator] DGs is assumed in the mitigation of a design basis event upon a loss of offsite power. This includes transferring the normal offsite power source to an alternate or emergency power source in the event of a sustained degraded voltage condition. The LOP instrumentation continues to provide this capability and is not altered by the proposed license change. The proposed change does not adversely affect accident initiators or precursors including a loss of offsite power or station blackout. The revised LOP degraded instrumentation setpoints ensure that the Class 1E electrical distribution system is separated from the offsite power system prior to damaging the safety related loads during sustained degraded voltage conditions while avoiding an inadvertent separation of safety-related buses from the offsite power system. Additionally, the degraded voltage instrumentation time delay will isolate the Class 1E electrical distribution system from offsite power before the diesel generators are ready to assume the emergency loads, which is the limiting time basis for mitigating system responses to design basis accidents.

In addition, the proposed change includes an increase of the voltage limit in the DG full load rejection surveillance test for the Unit 1 DGs. The DGs' safety function is solely mitigative and is not needed unless there is a loss of offsite power. The DGs do not affect any accident initiators or precursors of any accident previously evaluated. The proposed increase in the TS SR voltage limit does not affect the DGs' interaction with any system whose failure or malfunction can initiate an accident.

Therefore, the probability of occurrence of an accident previously evaluated is not significantly increased. The DG safety function is to provide power to safety related components needed to mitigate the consequences of an accident following a loss of offsite power.

The purpose of the [technical specification] TS [surveillance requirement] SR voltage limit is to assure DG damage protection following a full load rejection. The technical analysis performed to support this proposed amendment has demonstrated that the DGs can withstand voltages above the proposed limit without a loss of protection. The proposed higher limit will continue to provide assurance that the DGs are protected, and the safety function of the DGs will be unaffected by the proposed change. Therefore, the consequences of an accident previously evaluated will not be significantly increased.

As a result, the proposed change does not significantly alter assumptions relative to the mitigation of an accident or transient event and the proposed change does not involve a significant increase in the probability or consequences of an accident previously evaluated.

2. Does the proposed amendment create the possibility of a new or different kind of accident from any accident previously evaluated?

Response: No.

With respect to a new or different kind of accident, the proposed change does not alter the design or performance of the LOP instrumentation or electrical power system; nor are there any changes in the method by which safety related plant structures, systems, and components (SSCs) perform their specified safety functions as a result of the proposed license amendment. The proposed change deletes the loss of voltage annunciation requirements and increases the AVs for the degraded voltage protection instrumentation as a result of an electrical power system modification, which [Southern Nuclear Company] SNC has evaluated independently of this proposed license amendment. The proposed license amendment will not affect the normal method of plant operation or revise any operating parameters. Additionally, there is no detrimental impact on the manner in which plant equipment operates or responds to an actuation signal as a result of the proposed license change. No new accident scenarios, transient precursor, failure mechanisms, or limiting single failures will be introduced as a result of this proposed change and the failure modes and effects analyses of SSCs important to safety are not altered as a result of this proposed change.

The process of operating and testing the LOP instrumentation uses current procedures, methods, and processes already established and currently in use and is not being altered by the proposed license amendment. Therefore, the proposed change does not constitute a new type of test.

With respect to a new or different kind of accident for the increase of the voltage limit in the DG full load rejection surveillance test for the Unit 1 DGs, there are no new DG failure modes created and the DGs are not an initiator of any new or different kind of accident. The proposed increase in the TS SR voltage limit does not affect the interaction of the DGs with any system whose failure or malfunction can initiate an accident. The proposed amendment will not affect the normal method of plant operation or revise any operating parameters. No new accident scenarios, transient precursor, failure mechanisms, or limiting single failures will be introduced as a result of this proposed change and the failure modes and effects analyses of the DGs are not altered as a result of this proposed change.

Accordingly, the proposed change does not create the possibility of a new or different kind of accident from any previously evaluated.

3. Does the proposed amendment involve a significant reduction in a margin of safety?

Response: No.

Margin of safety is provided by the performance capability of plant equipment in preventing or mitigating challenges to fission product barriers under postulated operational transient and accident conditions. The proposed license change deletes the loss of voltage annunciation requirements and increases the AVs for the degraded voltage protection instrumentation as a result of an electrical power system modification, which SNC has evaluated independently of this proposed license amendment. The proposed deletion of the loss of voltage annunciation requirements is offset by the more restrictive degraded voltage instrumentation AVs thereby providing an automatic emergency bus transfer to the alternate or emergency power supply in the event of a sustained degraded voltage condition.

The increase in the TS SR voltage limit will not affect the ability of the DGs to perform their safety function. The technical analysis performed to support this amendment demonstrates that this ability will be unaffected and an increase in the TS SR voltage limit will not affect this ability.

Therefore, the margin associated with a design basis or safety limit parameter are not adversely impacted by the proposed amendment and, thus the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Co., Inc., P.O. Box 1295, Birmingham, AL 35201-1295.

NRC Branch Chief: Michael T. Markley.

Southern Nuclear Operating Company, Docket Nos. 52-025 and 52-026, Vogtle Electric Generating Plant, Units 3 and 4, Burke County, Georgia

Date of amendment request: May 17, 2019. A publicly-available version is in ADAMS under Accession No. ML19137A314.

Description of amendment request: The amendment proposes changes to the Updated Final Safety Analysis Report (UFSAR) and the Combined License Appendix A, Technical Specifications definition for Channel Calibration to allow a qualitative check (i.e., sensor resistance and insulation resistance tests) as an acceptable means to perform channel calibration for the reactor coolant pump (RCP) speed sensors. An additional change is proposed to the UFSAR to allow the use of a conservatively allocated response time in lieu of measurement for the RCP speed sensors and preamplifiers.

Basis for proposed no significant hazards consideration determination: As required by 10 CFR 50.91(a), the licensee has provided its analysis of the issue of no significant hazards consideration, which is presented below:

1. Does the proposed amendment create the possibility of a new or different kind of accident from any accident previously evaluated?

Response: No.

The proposed changes would revise the licensing basis, including the plant specific Technical Specifications, to allow a qualitative check (i.e., sensor resistance and insulation resistance tests) as an acceptable means to perform channel calibration for the reactor coolant pump (RCP) speed sensors and to allow the use of a conservatively allocated response time in lieu of measurement for the RCP speed sensors and preamplifiers to satisfy the Response Time test Surveillance Requirement.

The proposed changes do not affect the safety limits as described in the plant specific Technical Specifications. In addition, the limiting safety system settings and limiting control settings continue to be met with the proposed changes to the plant-specific Technical Specifications surveillance requirements. The proposed changes do not adversely affect the operation of any systems or equipment that initiate an analyzed accident or alter any structures, systems, and components (SSCs) accident initiator or initiating sequence of events and continue to maintain the initial conditions and operating limits required by the accident analysis, and the analyses of normal operation and anticipated operational occurrences. Therefore, the proposed changes do not result in any increase in probability of an analyzed accident occurring.

The proposed changes do not involve a change to any mitigation sequence or the predicted radiological releases due to postulated accident conditions, thus, the consequences of the accidents evaluated in the UFSAR are not affected.

Therefore, the proposed amendment does not involve a significant increase in the probability or consequences of an accident previously evaluated.

2. Does the proposed amendment create the possibility of a new or different kind of accident from any accident previously evaluated?

Response: No.

The proposed changes do not affect the safety limits as described in the plant specific Technical Specifications. In addition, the limiting safety system settings and limiting control settings continue to be met with the proposed changes to the plant-specific Technical Specifications limiting conditions for operation, applicability, actions, and surveillance requirements. The proposed changes do not affect the operation of any systems or equipment that may initiate a new or different kind of accident or alter any SSC such that a new accident initiator or initiating sequence of events is created.

These proposed changes do not adversely affect any other SSC design functions or methods of operation in a manner that results in a new failure mode, malfunction, or sequence of events that affect safety-related or nonsafety-related equipment. Therefore, this activity does not allow for a new fission product release path, result in a new fission product barrier failure mode, or create a new sequence of events that results in significant fuel cladding failures.

Therefore, the proposed amendment does not create the possibility of a new or different kind of accident from any accident previously evaluated.

3. Does the proposed amendment involve a significant reduction in a margin of safety?

Response: No.

The proposed changes do not affect the safety limits as described in the plant specific Technical Specifications. In addition, the limiting safety system settings and limiting control settings continue to be met with the proposed changes to the plant-specific Technical Specifications limiting conditions for operation, applicability, actions, and surveillance requirements. The proposed changes do not affect the initial conditions and operating limits required by the accident analysis, and the analyses of normal operation and anticipated operational occurrences, so that the acceptance limits specified in the UFSAR are not exceeded. The proposed changes satisfy the same safety functions in accordance with the same requirements as stated in the UFSAR. These changes do not adversely affect any design code, function, design analysis, safety analysis input or result, or design/safety margin.

No safety analysis or design basis acceptance limit/criterion is challenged or exceeded by the proposed changes, and no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer L. Dixon-Herrity.

Tennessee Valley Authority (TVA), Docket No. 50-391, Watts Bar Nuclear Plant (WBN), Unit 2, Rhea County, Tennessee

Date of amendment request: February 7, 2019. A publicly-available version is in ADAMS under Accession No. ML19038A483.

Description of amendment request: The amendment would revise the technical specifications (TS) to extend, on a one-time basis, the allowed Completion Time (CT) to restore one Essential Raw Cooling Water (ERCW) system train to operable status from 72 hours to 7 days. The change is needed to support performance of maintenance on 6.9 kiloVolt Shutdown Board 1A-A and associated 480 Volt boards and motor control centers. A longer CT under certain plant conditions will allow the necessary flexibility to perform the maintenance with one unit defueled, while minimizing risk to the operating unit.

Basis for proposed no significant hazards consideration determination: As required by 10 CFR 50.91(a), the licensee has provided its analysis of the issue of no significant hazards consideration, which is presented below:

1. Does the proposed change involve a significant increase in the probability or consequences of any accident previously evaluated?

Response: No.

The proposed change adds a one-time use new Condition A to TS 3.7.8 for WBN Unit 2. The proposed change will extend the allowed completion time to restore ERCW System train to operable status from 72 hours to seven days for planned maintenance when Unit 1 is defueled and UHS [ultimate heat sink] Temperature is less than or equal to 71 °F. This change does not result in any physical changes to plant safety-related structures, systems, or components (SSCs). The UHS and associated ERCW system function is to remove plant system heat loads during normal and accident conditions. As such, the UHS and ERCW system are not design basis accident initiators, but instead perform accident mitigation functions by serving as the heat sink for safety-related equipment to ensure the conditions and assumptions credited in the accident analyses are preserved. During operation under the proposed change with one ERCW train inoperable, the other ERCW train will continue to perform the design function of the ERCW system. Therefore, the proposed change does not involve a significant increase in the probability of an accident previously evaluated.

Accordingly, as demonstrated by TVA design heat transfer and flow modeling calculations, operation with one ERCW System inoperable for seven days for planned maintenance when WBN Unit 1 is defueled, the fuel cladding, Reactor Coolant System (RCS) pressure boundary, and containment integrity limits are not challenged during worst-case post-accident conditions. Accordingly, the conclusions of the accident analyses will remain as previously evaluated such that there will be no significant increase in the post-accident dose consequences.

Therefore, the proposed change does not involve a significant increase in the probability or consequences of an accident previously evaluated.

2. Does the proposed change create the possibility of a new or different kind of accident from any previously evaluated?

Response: No.

The proposed change does not involve any physical changes to plant safety related SSCs or alter the modes of plant operation in a manner that is outside the bounds of the current UHS and ERCW system design heat transfer and flow modeling analyses. The proposed change adds a one-time use new Condition A to TS 3.7.8, which would extend the allowed completion time to restore ERCW System train to operable status from 72 hours to seven days for planned maintenance when Unit 1 is defueled and UHS Temperature is less than or equal to 71 °F. Therefore, although the specified ERCW System alignments result in reduced heat transfer flow capability, the plant's overall ability to reject heat to the UHS during normal operation, normal shutdown, and hypothetical worst-case accident conditions will not be significantly affected by this proposed change. Because the safety and design requirements continue to be met and the integrity of the RCS pressure boundary is not challenged, no new credible failure mechanisms, malfunctions, or accident initiators are created, and there will be no effect on the accident mitigating systems in a manner that would significantly degrade the plant's response to an accident.

Therefore, the proposed change does not create the possibility of a new or different kind of accident from any accident previously evaluated.

3. Does the proposed change involve a significant reduction in the margin of safety?

Response: No.

The proposed change adds a one-time use new Condition A to TS 3.7.8, which would extend the allowed completion time to restore ERCW System train to operable status from 72 hours to seven days for planned maintenance when Unit 1 is defueled and UHS Temperature is less than or equal to 71 °F. As demonstrated by TVA design basis heat transfer and flow modeling calculations, the design limits for fuel cladding, RCS pressure boundary, and containment integrity are not exceeded under both normal and post-accident conditions. As required, these calculations include evaluation of the worst-case combination of meteorology and operational parameters, and establish adequate margins to account for measurement and instrument uncertainties. While operating margins have been reduced by the proposed change in order to support necessary maintenance activities, the current limiting design basis accidents remain applicable and the analyses conclusions remain bounding such that the accident safety margins are maintained. Accordingly, the proposed change will not significantly degrade the margin of safety of any SSCs that rely on the UHS and ERCW System for heat removal to perform their safety related functions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, TN 37902.

NRC Branch Chief: Undine Shoop.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station, Units 1 and 2, York County, South Carolina

Date of amendment requests: July 19, 2018.

Brief description of amendments: The amendments revised Catawba Nuclear Station, Units 1 and 2 (Catawba), Updated Final Safety Analysis Report (UFSAR), Section 6.2.4.2.2, “Containment Valve Injection Water System [NW],” to remove NW supply from specified Containment Isolation Valves (CIVs), and to exempt these CIVs from Type-C Local Leak Rate Testing. Additionally, the amendments would modify UFSAR, Table 6-77, “Containment Isolation Valve Data,” to make corresponding changes.

Date of issuance: June 17, 2019.

Effective date: As of the date of issuance and shall be implemented within 120 days of issuance.

Amendment Nos.: 302 (Unit 1) and 298 (Unit 2). A publicly-available version is in ADAMS under Accession No. ML19121A551; documents related to these amendments are listed in the Safety Evaluation enclosed with the amendments.

Renewed Facility Operating License Nos. NPF-35 and NPF-52: Amendments revised the Updated Final Safety Analysis Report.

Date of initial notice in Federal Register: November, 20, 2018 (83 FR 58610).

The Commission's related evaluation of the amendment is contained in a Safety Evaluation dated June 17, 2019.

No significant hazards consideration comments received: No.

Entergy Louisiana, LLC, and Entergy Operations, Inc. (Entergy), Docket No. 50-458, River Bend Station, Unit 1, West Feliciana Parish, Louisiana

Date of amendment request: November 29, 2018.

Brief description of amendment: The amendment revised the River Bend Station, Unit 1 Technical Specifications (TSs) to remove the Table of Contents and place it under the licensee's control. The Table of Contents is not eliminated but is no longer in the TSs, and therefore, maintenance and updates are now Entergy's responsibility.

Date of issuance: June 19, 2019.

Effective date: As of the date of issuance and shall be implemented 90 days from the date of issuance.

Amendment No.: 198. A publicly-available version is in ADAMS under Accession No. ML19071A299; documents related to this amendment are listed in the Safety Evaluation enclosed with the amendment.

Facility Operating License No. NPF-47: The amendment revised the Renewed Facility Operating License and Technical Specifications.

Date of initial notice in Federal Register: January 30, 2019 (84 FR 492).

The Commission's related evaluation of the amendment is contained in a Safety Evaluation dated June 19, 2019.

No significant hazards consideration comments received: No.

Energy Northwest, Docket No. 50-397, Columbia Generating Station, Benton County, Washington

Date of amendment request: June 12, 2018, as supplemented by letter dated August 7, 2018.

Brief description of amendment: The amendment revised the renewed facility operating license and the technical specifications, including editorial changes and the removal of obsolete information.

Date of issuance: June 20, 2019.

Effective date: As of the date of issuance and shall be implemented within 90 days from the date of issuance.

Amendment No.: 253. A publicly-available version is in ADAMS under Accession No. ML19063A579; documents related to this amendment are listed in the Safety Evaluation enclosed with the amendment.

Renewed Facility Operating License No. NPF-21: The amendment revised the Renewed Facility Operating License and Technical Specifications.

Date of initial notice in Federal Register: September 11, 2018 (83 FR 45984).

The Commission's related evaluation of the amendment is contained in a Safety Evaluation dated June 20, 2019.

No significant hazards consideration comments received: No.

Entergy Operations, Inc., System Energy Resources, Inc., Cooperative Energy, A Mississippi Electric Cooperative, and Entergy Mississippi, LLC, Docket No. 50-416, Grand Gulf Nuclear Station, Unit 1, Claiborne County, Mississippi

Date of amendment request: November 3, 2017, as supplemented by letters dated December 6, 2017, January 22, 2018, October 24, 2018, and January 23, 2019.

Brief description of amendment: The amendment revised the Grand Gulf Nuclear Station, Unit 1, Updated Final Safety Analysis Report to incorporate the Tornado Missile Risk Evaluator (TMRE) Methodology contained in Nuclear Energy Institute (NEI) 17-02, Revision 1, “Tornado Missile Risk (TMRE) Industry Guidance Document,” September 2017. This methodology can only be applied to discovered conditions where tornado missile protection is not currently provided and cannot be used to avoid providing tornado missile protection in the plant modification process.

Date of issuance: June 18, 2019.

Effective date: As of the date of issuance and shall be implemented 90 days of issuance.

Amendment No: 220. A publicly-available version is in ADAMS under Accession No. ML19123A014; documents related to this amendment are listed in the Safety Evaluation enclosed with the amendment.

Renewed Facility Operating License No. NPF-29: The amendment revised the Renewed Facility Operating License.

Date of initial notice in Federal Register: February 27, 2018 (83 FR 8516). The supplemental letters dated October 24, 2018, and January 23, 2019, provided additional information that clarified the application, did not expand the scope of the application as originally noticed, and did not change the NRC staff's original proposed no significant hazards consideration determination as published in the Federal Register.

The Commission's related evaluation of the amendment is contained in a Safety Evaluation dated June 18, 2019.

No significant hazards consideration comments received: No.

Exelon Generation Company, LLC, Docket Nos. 50-373 and 50-374, LaSalle County Station (LSCS), Units 1 and 2, LaSalle County, Illinois

Date of amendment request: April 19, 2018, as supplemented by letters dated April 12, 2019, April 24, 2019, and May 23, 2019.

Brief description of amendment: The amendments revised the licenses and the technical specifications (TSs) as follows:

Division 3 Battery Surveillance Testing

The proposed amendments would revise TSs 3.8.4, “DC Sources-Operating,” and TS 3.8.6, “Battery Parameters,” by removing the Mode restrictions for performance of TS surveillance requirements (SRs) 3.8.4.3 and 3.8.6.6 for the Division 3 direct current (DC) electrical power subsystem battery. The Division 3 DC electrical power subsystem feeds emergency DC loads associated with the high-pressure core spray (HPCS) system. SR 3.8.4.3 verifies that the battery capacity is adequate for the battery to perform its required functions. SR 3.8.6.6 verifies battery capacity is ≥80 percent of the manufacturer's rating when subjected to a performance discharge test (or a modified performance discharge test). The proposed amendments would remove these Mode restrictions for the Division 3 battery, allowing performance of SR 3.8.4.3 and SR 3.8.6.6 for the Division 3 battery during Mode 1 or 2, potentially minimizing impact on HPCS unavailability. Eliminating the requirement to perform SR 3.8.4.3 and SR 3.8.6.6 only during Mode 3, 4, or 5 (hot shutdown, cold shutdown, or refueling conditions) will provide greater flexibility in scheduling Division 3 battery testing activities by allowing the testing to be performed during non-outage times.

High Pressure Core Spray Diesel Generator Surveillance Testing

The proposed amendments would revise TS 3.8.1, “AC Sources-Operating,” by revising certain SRs pertaining to the Division 3 diesel generator (DG). The Division 3 DG is an independent source of onsite alternating current (AC) power dedicated to the HPCS system. The TSs currently prohibit performing the testing required by SRs 3.8.1.9, 3.8.1.10, 3.8.1.11, 3.8.1.12, 3.8.1.13, 3.8.1.16, 3.8.1.17, and 3.8.1.19, in Modes 1 or 2. The proposed amendments would remove these Mode restrictions and allow all eight of the identified SRs to be performed in any operating Mode for the Division 3 DG. The Mode restrictions will remain applicable to the other two safety-related (Division 1 and Division 2) DGs.

The proposed change will provide greater flexibility in scheduling Division 3 DG testing activities by allowing the testing to be performed during non-outage times. Having a completely tested Division 3 DG available for the duration of a refueling outage will reduce the number of system re-alignments and operator workload during an outage.

Date of issuance: June 24, 2019.

Effective date: As of the date of issuance and shall be implemented within 90 days of issuance.

Amendment No.: Unit 1—237; Unit 2—223. A publicly-available version is in ADAMS under Accession No. ML19121A505; documents related to these amendments are listed in the Safety Evaluation enclosed with the amendments.

Renewed Facility Operating License Nos. NPF-11 and NPF-18: The amendments revised the Renewed Facility Operating Licenses and Technical Specifications.

Date of initial notice in Federal Register: August 14, 2018 (83 FR 40348). The supplemental letters dated April 12, 2019, April 24,2019, and May 23, 2019, provided additional information that clarified the application, did not expand the scope of the application as originally noticed, and did not change the staff's original proposed no significant hazards consideration determination as published in the Federal Register.

The Commission's related evaluation of the amendments is contained in a Safety Evaluation dated June 24, 2019.

No significant hazards consideration comments received: No.

FirstEnergy Nuclear Operating Company, et al., Docket No. 50-346, Davis-Besse Nuclear Power Station, Unit No. 1, Ottawa County, Ohio

Date of amendment request: December 16, 2015, as supplemental letters dated February 2, March 7, July 28, and December 16, 2016; January 17, June 16, and October 9, 2017; April 2, September 11, and November 20, 2018; and May 13, 2019.

Brief description of amendment: The amendment revised the Davis-Besse Nuclear Power Station, Unit No. 1, license and technical specifications to establish and maintain a risk-informed, performance-based fire protection program in accordance with 10 CFR 50.48(c).

Date of issuance: June 21, 2019.

Effective date: As of the date of issuance and shall be implemented in accordance with paragraph 2.C(4) of the license.

Amendment No.: 298. A publicly-available version is in ADAMS under Accession No. ML19100A306; documents related to this amendment are listed in the Safely Evaluation enclosed with the amendment.

Renewed Facility Operating License No. NPF-3: The amendment revised the renewed facility operating license and technical specifications.

Date of initial notice in Federal Register: April 12, 2016 (81 FR 21599). The supplemental letters dated July 28 and December 16, 2016; January 17, June 16, and October 9, 2017; April 2, September 11, and November 20, 2018; and May 13, 2019, provided additional information that clarified the application, did not expand the scope of the application as originally noticed, and did not change the NRC staff's original proposed no significant hazards consideration determination as published in the Federal Register.

The Commission's related evaluation of the amendment is contained in a Safety Evaluation dated June 21, 2019.

No significant hazards consideration comments received: No.

Southern Nuclear Operating Company, Inc., Docket Nos. 50-424 and 50-425, Vogtle Electric Generating Plant, Units 1 and 2, Burke County, Georgia

Date of amendment request: December 19, 2018, as supplemented by letter dated April 30, 2019.

Brief description of amendments: The amendments revised the Conditions, Required Actions, and Completion Times in the Technical Specification (TS) for the Condition where one steam supply to the turbine-driven Auxiliary Feedwater (AFW) pump is inoperable concurrent with an inoperable motor-driven AFW train. In addition, the amendments revised the TS that establish specific Actions: (1) For when two motor-driven AFW trains are inoperable at the same time and; (2) for when the turbine-driven AFW train is inoperable either (a) due solely to one inoperable steam supply, or (b) due to reasons other than one inoperable steam supply. The amendments were consistent with U.S. Nuclear Regulatory Commission-approved Technical Specification Task Force (TSTF) Traveler, TSTF-412, Revision 3, “Provide Actions for One Steam Supply to Turbine Driven AFW/EFW Pump Inoperable.” The availability of this TSTF improvement was announced in the Federal Register on July 17, 2007, as part of the consolidated line item improvement process.

Date of issuance: June 24, 2019.

Effective date: As of the date of issuance and shall be implemented within 90 days of issuance.

Amendment Nos.: 200/183. A publicly-available version is in ADAMS under Accession No. ML19046A088; documents related to these amendments are listed in the Safety Evaluation enclosed with the amendments.

Facility Operating License No. NPF-68 and NPF-81: Amendments revised the Facility Operating Licenses and Technical Specifications.

Date of initial notice in Federal Register: March 12, 2019, (84 FR 8911). The supplemental letter dated April 30, 2019, provided additional information that clarified the application, did not expand the scope of the application as originally noticed, and did not change the NRC staff's original proposed no significant hazards consideration determination as published in the Federal Register.

The Commission's related evaluation of the amendment is contained in a Safety Evaluation dated June 24, 2019.

No significant hazards consideration comments received: No.

Susquehanna Nuclear, LLC, Docket Nos. 50-387 and 50-388, Susquehanna Steam Electric Station, Units 1 and 2, Luzerne County, Pennsylvania

Date of amendment request: December 4, 2018.

Brief description of amendments: The amendments revised the Susquehanna Steam Electric Station, Units 1 and 2, Technical Specifications to replace the current stored diesel fuel oil numerical volume requirements with duration-based diesel operating time requirements.

Date of issuance: June 24, 2019.

Effective date: As of the date of issuance and shall be implemented within 60 days of issuance.

Amendment Nos.: 272 (Unit 1) and 254 (Unit 2). A publicly-available version is in ADAMS under Accession No. ML19154A060; documents related to these amendments are listed in the Safety Evaluation enclosed with the amendments.

Renewed Facility Operating License Nos. NPF-14 and NPF-22: The amendments revised the Renewed Facility Operating Licenses and Technical Specifications.

Date of initial notice in Federal Register: January 30, 2019 (84 FR 497).

The Commission's related evaluation of the amendments is contained in a Safety Evaluation dated June 24, 2019.

No significant hazards consideration comments received: No.

Dated at Rockville, Maryland, this 3rd day of July, 2019.
For the Nuclear Regulatory Commission.
Blake D. Welling,
Acting Deputy Director, Division of Operating Reactor Licensing, Office of Nuclear Reactor Regulation.

[FR Doc. 2019-14624 Filed 7-15-19; 8:45 am]

BILLING CODE 7590-01-P